DEPARTMENT OF HEALTH AND HUMAN SERVICES

Administration for Children and Families

Proposed Information Collection Activity; Comment Request

Proposed Projects

Title: Compassion Capital Fund Evaluation—Initial Outcome Study.

OMB No.: New collection.

Description: This proposed information collection activity is for an initial outcome study that is one component of the evaluation of the Compassion Capital Fund (CCF) program. The information collection will be through mailed surveys to be completed by selected faith-based and community organizations that received sub-awards from CCF grantees. The CCF grantees are intermediary organizations that provide capacity building services to faith-based and community organizations.

The CCF evaluation is an important opportunity to examine the outcomes and effectiveness of the Compassion Capital Fund in meeting its objective of improving the capacity of faith-based and community organizations. This initial outcome study component of the evaluation will involve approximately 180 faith-based and community organizations. Information will be sought from these organizations to assess change and improvement in various areas of capacity resulting from receipt of sub-awards.

Respondents: The respondents will be selected faith-based and community organizations that received sub-awards in 2003 from nine selected CCF intermediary grantees. The surveys will be self-administered.

Annual Burden Estimates
Instrument | Number of respondents | Number of responses per respondent | Average burden hours per response | Total burden hours
Faith-based Community Org. Survey | 180 | 1 | 20 hours (12 minutes) | 36
Estimated Total Annual Burden Hours |  |  |  | 36

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447. Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents. Consideration will be given to comments and suggestions submitted within 60 days of this publication.

Dated: August 1, 2005.
Robert Sargis,
Reports Clearance Officer.

[FR Doc. 05-15541 Filed 8-4-05; 8:45 am]

BILLING CODE 4184-01-M